CIVIL RIGHTS COMMISSION

Notice of Public Meeting of the Louisiana Advisory Committee to the U.S. Commission on Civil Rights

AGENCY: U.S. Commission on Civil Rights.

ACTION: Announcement of virtual meeting.

SUMMARY: Notice is hereby given, pursuant to the provisions of the rules and regulations of the U.S. Commission on Civil Rights (Commission) and the Federal Advisory Committee Act, that the Louisiana Advisory Committee (Committee) to the U.S. Commission on Civil Rights will hold a series of public meetings via Zoom on Monday, October 27, 2025 from 10:00 a.m.-12:00 p.m. Central Time; Thursday, November 20, 2025 from 10:00 a.m.-11:00 a.m. Central Time; Wednesday, January 7, 2026 from 10:00 a.m.-11:00 a.m. Central Time and Monday, February 2, 2026 from 10:00 a.m.-11:00 a.m. Central Time. The purpose of the meeting on October 27, 2025 is for Committee members to hear testimony regarding their topic on the role of coroners in involuntary mental health commitments in Louisiana. The purpose of the meeting on November 20, 2025 is a Debriefing Meeting to discuss testimony received. The purpose of the meeting on January 7, 2026 is to discuss the 1st report draft. The purpose of February 2, 2026 meeting will be the final SAC meeting to vote on their report.

DATES:

• Monday, October 27, 2025, from 10:00 a.m.-12:00 p.m. Central Time.

Addresses: The meeting will be held via Zoom.

October 27th Briefing Meeting

—Registration Link: https://tinyurl.com/2ed8zrnh.

—Join by Phone (Audio Only) 1-833-435-1820 USA Toll Free: Meeting ID: 160 927 8965.

• Thursday, November 20, 2025, from 10:00 a.m.-11:00 a.m. Central Time.

Addresses: The meeting will be held via Zoom.

November 20th Debrief Meeting

—Registration Link: https://tinyurl.com/3p9j73ec.

—Join by Phone (Audio Only) 1-833-435-1820 USA Toll Free: Meeting ID: 160 158 3779.

• Wednesday, January 7, 2026, from 10:00 a.m.-11:00 a.m. Central Time.

Addresses: The meeting will be held via Zoom.

January 7th 1st Report Draft Meeting

—Registration Link: https://tinyurl.com/3sdp6u77.

—Join by Phone (Audio Only) 1-833-435-1820 USA Toll Free: Meeting ID: 160 261 2491.

• Monday, February 2, 2026, from 10:00 a.m.-11:00 a.m. Central Time.

Addresses: The meeting will be held via Zoom.

Final Meeting Report Vote

—Registration Link: https://tinyurl.com/mtrvsn8f.

—Join by Phone (Audio Only) 1-833-435-1820 USA Toll Free: Meeting ID: 160 612 7311.

FOR FURTHER INFORMATION CONTACT: Mallory Trachtenberg, Designated Federal Officer, at mtrachtenberg@usccr.gov or 1-202-809-9618.

SUPPLEMENTARY INFORMATION: These committee meetings are available to the public through the registration links above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available. To request accommodations, please email Corrine Sanders, Support Specialist, at csanders@usccr.gov at least 10 business days prior to the meeting.

Members of the public are entitled to submit written comments; the comments must be received in the regional office within 30 days following the meeting. Written comments may be emailed to Mallory Trachtenberg, mtrachtenberg@usccr.gov. Persons who desire additional information may contact the Regional Programs Coordination Unit at (202) 809-9618.

Records of the meetings will be available via www.facadatabase.gov under the Commission on Civil Rights, Louisiana Advisory Committee link. Persons interested in the work of this Committee are directed to the Commission's website, http://www.usccr.gov, or may contact the Regional Programs Coordination Unit at mtrachtenberg@usccr.gov.

Agenda

—Agendas for these meetings are available at the following link: https://tinyurl.com/499wrt5w.

Dated: September 9, 2025.
David Mussatt,
Supervisory Chief, Regional Programs Unit.

[FR Doc. 2025-17579 Filed 9-11-25; 8:45 am]

BILLING CODE P